DEPARTMENT OF DEFENSE

Office of the Secretary

[Transmittal No. 24-125]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-125, Policy Justification, and Sensitivity of Technology.

Dated: January 8, 2026.
Stephanie J. Bost,
Alternate OSD Federal Register Liaison Officer, Department of Defense.

BILLING CODE 6001-FR-P

BILLING CODE 6001-FR-C

Transmittal No. 24-125

Notice of Proposed Issuance of Letter of Offer Pursuant to Section 36(b)(1) of the Arms Export Control Act, as amended

(i) Prospective Purchaser: Government of Japan

(ii) Total Estimated Value:

Major Defense Equipment * | $31 million
Other | $ 8 million
TOTAL | $39 million

(iii) Description and Quantity or Quantities of Articles or Services under Consideration for Purchase:

Major Defense Equipment (MDE):

Sixteen (16) AGM-158B/B-2 Joint Air-to-Surface Standoff Missiles with Extended Range (JASSM-ER)

Non-Major Defense Equipment:

The following non-MDE items will also be included: AGM-158 JASSM Dummy Air Training Missiles (DATM) and containers; JASSM Anti-jam Global Positioning System Receivers (JAGR); munitions support and support equipment; spare parts, consumables, accessories, and repair and return support; integration and test support and equipment; classified and unclassified software delivery and support; classified and unclassified publications and technical documentation; personnel training and equipment; airlift and transportation support; United States (U.S.) Government and contractor engineering, technical, and logistics support services; studies and surveys; and other related elements of logistics and program support.

(iv) Military Department: Air Force (JA-D-YBL)

(v) Prior Related Cases, if any: JA-D-YBH

(vi) Sales Commission, Fee, etc., Paid, Offered, or Agreed to be Paid: None known at this time

(vii) Sensitivity of Technology Contained in the Defense Article or Defense Services Proposed to be Sold: See Attached Annex

(viii) Date Report Delivered to Congress: January 15, 2025

* as defined in Section 47(6) of the Arms Export Control Act.

POLICY JUSTIFICATION

Japan—Joint Air-to-Surface Standoff Missiles with Extended Range

The Government of Japan has requested to buy sixteen (16) AGM-158B/B-2 Joint Air-to-Surface Standoff Missiles with Extended Range (JASSM-ER). The following non-MDE items will also be included: AGM-158 JASSM Dummy Air Training Missiles (DATM) and containers; JASSM Anti-jam Global Positioning System Receivers (JAGR); munitions support and support equipment; spare parts, consumables and accessories, and repair and return support; integration and test support and equipment; classified and unclassified software delivery and support; classified and unclassified publications and technical documentation; personnel training and equipment; airlift and transportation support; U.S. Government and contractor engineering, technical, and logistics support services; studies and surveys; and other related elements of logistics and program support. The estimated total cost is $39 million.

This proposed sale will support the foreign policy goals and national security objectives of the U.S. by improving the security of a major ally that is a force for political stability and economic progress in the Indo-Pacific region.

The proposed sale will improve Japan's capability to meet current and future threats by providing stand-off capability via advanced, long-range strike systems for employment on Japan Air Self-Defense Force (JASDF) fighter aircraft, including but not limited to the F-15J and F-35A/B. Japan will have no difficulty absorbing these articles and services into its armed forces.

The proposed sale of this equipment and support will not alter the basic military balance in the region.

The principal contractor will be Lockheed Martin, located in Orlando, FL. At this time, the U.S. Government is not aware of any offset agreement proposed in connection with this potential sale. Any offset agreement will be defined in negotiations between the purchaser and the contractor.

Implementation of this proposed sale will not require the assignment of any additional U.S. Government or contractor representatives to Japan.

There will be no adverse impact on U.S. defense readiness as a result of this proposed sale.

Transmittal No. 24-125

Notice of Proposed Issuance of Letter of Offer Pursuant to Section 36(b)(1) of the Arms Export Control Act

Annex

Item No. vii

(vii) Sensitivity of Technology:

1. The AGM-158B/B-2 Joint Air-to-Surface Standoff Missile with Extended Range (JASSM-ER) All Up Round (AUR) is a low-observable, highly survivable, subsonic cruise missile designed to penetrate next-generation air defense systems enroute to target. The JASSM-ER is designed to kill hard, medium-hardened, soft, and area-type targets. The extended range over the baseline was obtained by going from a turbo jet to a turbo-fan engine and by reconfiguring the fuel tanks for added capacity.

a. The AGM-158B-2 system capabilities include all the capabilities of the AGM-158B. The AGM-158B-2 configuration will have different internal components to address multiple obsolescence issues as well as subcomponent updates to position for M-Code and other potential upgrades. Global Positioning System/Precise Positioning Service (GPS/PPS) to be provided by either Selective Availability Anti-Spoofing Module (SAASM) or M-Code.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Japan can provide substantially the same degree of protection for the sensitive technology being released as the U.S. Government. This sale is necessary in furtherance of the U.S. foreign policy and national security objectives outlined in the Policy Justification.

5. All defense articles and services listed in this transmittal have been authorized for release and export to the Government of Japan.

[FR Doc. 2026-00441 Filed 1-12-26; 8:45 am]

BILLING CODE 6001-FR-P